DEPARTMENT OF HEALTH AND HUMAN SERVICES

[Document Identifier: OS-0990-0330]

Agency Information Collection Request; 30-Day Public Comment Request

AGENCY: Office of the Secretary, HHS.

ACTION: Notice.

SUMMARY: In compliance with the requirement of the Paperwork Reduction Act of 1995, the Office of the Secretary (OS), Department of Health and Human Services (HHS), is publishing the following summary of a proposed collection for public comment.

DATES: Comments on the ICR must be received on or before May 16, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 264-0041, or PRA@HHS.GOV. When submitting comments or requesting information, please include the document identifier 0990-0330-60D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Appellant Climate Survey.

Type of Collection: Revision.

OMB No. 0990-0330, HHS, OS, Office of Medicare Hearings and Appeals.

Abstract:

The Department of Health and Human Services under the Office of Medicare Hearings and Appeals is doing the annual OMHA Appellant Climate Survey. This is a survey of Medicare beneficiaries, providers, suppliers, or their representatives who participated in a hearing before an Administrative Law Judge (ALJ) from OMHA. Appellants dissatisfied with the outcome of their Level 2 Medicare appeal may request a hearing before an OMHA ALJ. The Appellant Climate Survey will be used to measure appellant satisfaction with their OMHA appeals experience, as opposed to their satisfaction with a specific ruling. OMHA was established by the Medicare Prescription Drug, Improvement, and Modernization Act (MMA) of 2003 (Pub. L. 108-173) and became operational on July 1, 2005. The MMA legislation also directed HHS to consider the feasibility of conducting hearings using telephone or video-teleconference (VTC) technologies. In carrying out this mandate, OMHA makes use of both telephone and VTC to provide appellants with a vast nationwide network of Field Offices for hearings. The first 3-year administration cycle of the OMHA survey began in fiscal year (FY) 2008, a second 3-year cycle began in FY 2011, a third 3-year cycle began in FY 2014, a fourth 3-year cycle began in FY 2018, and a fifth 3-year cycle began in FY 2021. The survey will continue to be conducted annually over a 3-year period with the next data collection cycle beginning in FY 2024.

The survey instrument includes several changes from the prior 3-year cycle: Added a new section, “Request for Hearing.” The section focuses on how customers requested a hearing, how satisfied they were with the method they used to request a hearing, and about the clarity of form OMHA-100 (Request for ALJ Hearing or Review of Dismissal).

Changed “Hard Copy, internet and Phone Information” section to “Communications and Web Tools” section.

Added a brief statement about when customers should have received the “Notice of Nondiscrimination” document.

Added two satisfaction questions for appellants who used the e-Appeal Portal—one about updates the portal provides on their appeal and another about using the portal for uploading documents electronically.

Changed “Telephone Hearing” section to “Hearing.” The appellant is asked what type of hearing they had (telephone or video) and satisfaction with using that method. If they attended a telephone hearing, appellants will be asked whether they were offered the option of a video hearing; if not, they will be asked if they would have participated in a video hearing if offered.

Data collection instruments and recruitment materials will be offered in English and Spanish. The estimated total number of respondents across all 3 years is 2,400 (800 respondents each FY for FY 2024, FY 2025, and FY2026). The estimated total annual burden hours expected across all years is 600 hours (200 hours each FY for FY 2024, FY 2025, and FY 2026).

The survey will be conducted annually, and survey respondents will consist of Medicare beneficiaries and non-beneficiaries (i.e., providers, suppliers) who participated in a hearing before an OMHA ALJ. OMHA will draw a representative, nonredundant sample of appellants whose cases have been closed in the first 6 months of the surveyed fiscal year.

Estimated Annualized Burden Hour Table
Forms (if necessary) | Respondents (if necessary) | Number of respondents | Number responses per respondent | Average burden per response (in hours) | Total burden hours
| Beneficiaries | 400 | 1 | 15/60 | 100
| Non-Beneficiaries | 400 | 1 | 15/60 | 100
Total |  | 800 | 1 | 15/60 | 200

Sherrette A. Funn,
Paperwork Reduction Act Reports Clearance Officer, Office of the Secretary.

[FR Doc. 2024-07934 Filed 4-15-24; 8:45 am]

BILLING CODE 4150-46-P